DEPARTMENT OF COMMERCE

National Oceanic and Atmospheric Administration

RIN 0648-XF375

Mid-Atlantic Fishery Management Council (MAFMC); Public Meeting

AGENCY: National Marine Fisheries Service (NMFS), National Oceanic and Atmospheric Administration (NOAA), Commerce.

ACTION: Notice of a public meeting.

SUMMARY: The Mid-Atlantic Fishery Management Council (Council) will hold public meetings of the Council in conjunction with the Atlantic States Marine Fisheries Commission.

DATES: The meeting will be held on Wednesday, May 10, 2017, from 1 p.m. until 5:45 p.m. For agenda details, see SUPPLEMENTARY INFORMATION.

ADDRESSES: The meetings will be held at: The Westin Alexandria, 400 Courthouse Square, Alexandria, VA 22314, telephone: (703) 253-8600.

Council address: Mid-Atlantic Fishery Management Council, 800 N. State Street, Suite 201, Dover, DE 19901; telephone: (302) 674-2331 or on their Web site at www.mafmc.org.

FOR FURTHER INFORMATION CONTACT: Christopher M. Moore, Ph.D., Executive Director, Mid-Atlantic Fishery Management Council, telephone: (302) 526-5255.

SUPPLEMENTARY INFORMATION: The following items are on the agenda, though agenda items may be addressed out of order (changes will be noted on the Council's Web site when possible).

Agenda

Wednesday, May 10, 2017

1. Welcome/Call to Order

2. Scup Quota Period Framework (Framework 10 to the Summer Flounder, Scup, and Black Sea Bass FMP)

Final Action

3. Comprehensive Summer Flounder Amendment

Review draft range of alternatives for commercial issues and approve range of alternatives for further development and inclusion in a public hearing document

4. Review Implementation of 2017 Summer Flounder and Black Sea Bass Recreational Measures

5. Black Sea Bass Wave I Fishery

Review white paper on potential experimental recreational Wave 1 black sea bass fishery and consider postponed motion to allow experimental wave 1 for-hire fishery: Motion to allow an experimental 2018 January/February (wave 1), recreational, federally permitted for-hire fishery for black sea bass with a 15 fish per person possession limit, a suspended minimum size limit, and a zero discard policy to allow for barotrauma, and a mandatory trip reporting requirement.

6. Review Board White Paper on Summer Flounder Recreational Specifications

7. Other Business/Adjourn

Special Accommodations

This meeting is physically accessible to people with disabilities. Requests for sign language interpretation or other auxiliary aids should be directed to M. Jan Saunders, (302) 526-5251, at least 5 days prior to the meeting date.

Dated: April 18, 2017.
Tracey L. Thompson,
Acting Deputy Director, Office of Sustainable Fisheries, National Marine Fisheries Service.

[FR Doc. 2017-08128 Filed 4-20-17; 8:45 am]

BILLING CODE 3510-22-P